DEPARTMENT OF DEFENSE

Department of the Army

Performance Review Boards Membership

AGENCY: Department of the Army, DoD.

ACTION: Notice.

SUMMARY: Notice is given of the names of members of a Performance Review Board for the Department of the Army.

EFFECTIVE DATE: August 23, 2001.

FOR FURTHER INFORMATION CONTACT: David Stokes, U.S.Army Senior Executive Service Office, Assistant Secretary of the Army, Manpower & Reserve Affairs, 111 Army, Washington, DC 20310-0111.

SUPPLEMENTARY INFORMATION: Section 4314(c)(1) through (5) of Title 5, U.S.C. requires each agency to establish, in accordance with regulations, one or more senior Executive Service performance review boards. The boards shall review and evaluate the initial appraisal of senior executives' performance by supervisors and make recommendations to the appointing authority or rating official relative to the performance of these executives.

The members of the Performance Review Board for the Consolidated Commands are:

1. Hugh M. Exton, Jr., Assistant Deputy Chief of Staff, Engineer (Public Works), Headquarters, U.S. Army, Europe

2. William Campbell, III, Deputy Chief of Staff Resource Management, Headquarters, U.S. Army, Europe

3. Dr. Michael L. Gentry, Senior Technical Director/Chief Engineer, U.S. Army Signal Command

4. Mr. Stephen Koons, Assistant Deputy Chief of Staff for Logistics, U.S. Army Forces Command

5. Mr. Mark J. Lumer, Principal Assistant Responsible for Contracting, U.S. Army Space & Missile Defense Command

6. Dr. Michael J. Lavan, Director, Advanced Technology Directorate, U.S. Army Space & Missile Defense Command

7. Mr. Robert Seger, Assistant Deputy Chief of Staff for Training, U.S. Army Training & Doctrine Command

8. BG Stanton, Deputy Chief of Staff for Resource Management, U.S. Army Training & Doctrine Command

9. Ms. Diane Devens, Assistant Deputy Chief of Staff for Base Operations Support, U.S. Army Training & Doctrine Command

10. Mr. John Metzler, Superintendent, Arlington National Cemetery, U.S. Army Military District of Washington

11. Mr. Richard McSeveney, Deputy to the Commander for Installation Support, U.S. Army Military District of Washington

12. MG Kenneth Privratsky, Commander, Military Traffic Management Command

13. Mr. William J. Cooper, Director, MTMC Transportation Engineering Agency, Military Traffic Management Command

14. Mr. William S. Rich, Jr., Deputy & Technical Director, U.S. Army National Ground Intelligence Center, U.S. Army Intelligence & Security Command

John A. Hall,
Alternate Army Federal Register Liaison Officer.

[FR Doc. 01-21142 Filed 8-21-01; 8:45 am]

BILLING CODE 3710-08-M